INTERNATIONAL TRADE COMMISSION

[Investigation Nos. 701-TA-780-782 and 731-TA-1767-1769 (Preliminary)]

Van-Type Trailers and Subassemblies From Canada, China, and Mexico; Revised Schedule for the Subject Investigations

AGENCY: United States International Trade Commission.

ACTION: Notice.

DATES: January 26, 2026.

FOR FURTHER INFORMATION CONTACT: Peter Stebbins (202-205-2039), Office of Investigations, U.S. International Trade Commission, 500 E Street SW, Washington, DC 20436. Hearing-impaired persons can obtain information on this matter by contacting the Commission's TDD terminal on 202-205-1810. Persons with mobility impairments who will need special assistance in gaining access to the U.S. International Trade Commission (“Commission”) should contact the Office of the Secretary at 202-205-2000. General information concerning the Commission may also be obtained by accessing its internet server (https://www.usitc.gov). The public record for this proceeding may be viewed on the Commission's electronic docket (EDIS) at https://edis.usitc.gov.

SUPPLEMENTARY INFORMATION: Effective November 20, 2025, the Commission established a schedule for the conduct of the subject proceeding (90 FR 53388, November 25, 2025). As a result of the closure of the agency on December 24 and 26, 2025, the Commission revised its schedule (90 FR 61410, December 31, 2025). Subsequently, the Department of Commerce (“Commerce”) extended the deadline for its initiation determination to January 20, 2026 (91 FR 249, January 5, 2026). On January 26, 2026, Commerce provided notice in the Federal Register of its initiation of antidumping and countervailing duty investigations with respect to van-type trailers and subassemblies from Canada, China, and Mexico (91 FR 3104, January 26, 2026 and 91 FR 3124, January 26, 2026). The Commission, therefore, is revising its schedule, consistent with Commerce's initiations.

The Commission will issue its preliminary determinations on February 11, 2026, and file its views on February 19, 2026.

For further information concerning this proceeding, see the Commission's notice cited above and the Commission's Rules of Practice and Procedure, part 201, subparts A and B (19 CFR part 201), and part 207, subparts A and B (19 CFR part 207).

Authority: This proceeding is being conducted under authority of title VII of the Tariff Act of 1930; this notice is published pursuant to section 207.12 of the Commission's rules.

By order of the Commission.
Issued: January 28, 2026.
Lisa Barton,
Secretary to the Commission.

[FR Doc. 2026-01952 Filed 1-30-26; 8:45 am]

BILLING CODE 7020-02-P